DEPARTMENT OF HOMELAND SECURITY

Federal Emergency Management Agency

44 CFR Part 67

[Docket ID FEMA-2011-0002; Internal Agency Docket No. FEMA-B-1221]

Proposed Flood Elevation Determinations for the City of McCleary, WA

AGENCY: Federal Emergency Management Agency, DHS.

ACTION: Proposed rule; withdrawal.

SUMMARY: The Federal Emergency Management Agency (FEMA) is withdrawing its proposed rule concerning proposed flood elevation determinations in the City of McCleary, Washington.

DATES: This withdrawal is effective October 1, 2012.

ADDRESSES: You may submit comments, identified by Docket No. FEMA-B-1221, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On October 5, 2011, FEMA published a proposed rulemaking at 76 FR 61649, proposing flood elevation determinations along one or more flooding sources in the City of McCleary, Washington. FEMA is withdrawing the proposed rulemaking and intends to publish a Notice of Proposed Flood Hazard Determinations in the Federal Register followed by a notice in the affected community's local newspaper in the near future.

Authority: 42 U.S.C. 4104; 44 CFR 67.4.

Dated: September 14, 2012.
Sandra K. Knight,
Deputy Associate Administrator for Mitigation, Department of Homeland Security, Federal Emergency Management Agency.

[FR Doc. 2012-23951 Filed 9-28-12; 8:45 am]

BILLING CODE 9110-12-P